DEPARTMENT OF ENERGY

Federal Energy Regulatory Commission

Combined Notice of Filings

Take notice that the Commission has received the following Natural Gas Pipeline Rate and Refund Report filings:

Filings Instituting Proceedings

Docket Number: PR18-81-001.

Applicants: Agua Blanca, LLC.

Description: Tariff filing per 284.123(b),(e)/: Amendment to 2 to be effective 7/1/2018.

Filed Date: 4/25/19.

Accession Number: 201904255104.

Comments/Protests Due: 5 p.m. ET 5/16/19.

Docket Numbers: RP19-1149-000.

Applicants: Algonquin Gas Transmission, LLC.

Description: § 4(d) Rate Filing: Negotiated Rates—Various Releases to BBPC eff 5-1-2019 to be effective 5/1/2019.

Filed Date: 4/25/19.

Accession Number: 20190425-5004.

Comments Due: 5 p.m. ET 5/7/19.

Docket Numbers: RP19-1150-000.

Applicants: Alliance Pipeline L.P.

Description: § 4(d) Rate Filing: April 2019 Negotiated Rate Cleanup Filing to be effective 5/28/2019.

Filed Date: 4/25/19.

Accession Number: 20190425-5020.

Comments Due: 5 p.m. ET 5/7/19.

Docket Numbers: RP19-1152-000.

Applicants: El Paso Natural Gas Company, L.L.C.

Description: § 4(d) Rate Filing: Non-Conforming Negotiated Rate Agreement Update (SoCal June 19) to be effective 6/1/2019.

Filed Date: 4/25/19.

Accession Number: 20190425-5087.

Comments Due: 5 p.m. ET 5/7/19.

Docket Numbers: RP19-1153-000.

Applicants: Texas Eastern Transmission, LP.

Description: § 4(d) Rate Filing: Negotiated Rate—Chevron 911109 5-1-19 Release to be effective 5/1/2019.

Filed Date: 4/25/19.

Accession Number: 20190425-5105.

Comments Due: 5 p.m. ET 5/7/19.

Docket Numbers: RP19-1154-000.

Applicants: Gulf South Pipeline Company, LP.

Description: § 4(d) Rate Filing: Create New Rate Schedule Option PAL-CB to be effective 6/1/2019.

Filed Date: 4/26/19.

Accession Number: 20190426-5002.

Comments Due: 5 p.m. ET 5/8/19.

Docket Numbers: RP19-1155-000.

Applicants: Dominion Energy Transmission, Inc.

Description: § 4(d) Rate Filing: DETI—April 26, 2019 Negotiated Rate Agreements to be effective 5/1/2019.

Filed Date: 4/26/19.

Accession Number: 20190426-5009.

Comments Due: 5 p.m. ET 5/8/19.

Docket Numbers: RP19-1156-000.

Applicants: Millennium Pipeline Company, LLC.

Description: § 4(d) Rate Filing: Negotiated Rate Agmt—Cabot to be effective 5/1/2019.

Filed Date: 4/26/19.

Accession Number: 20190426-5150.

Comments Due: 5 p.m. ET 5/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2019.
Nathaniel J. Davis, Sr.,
Deputy Secretary.

[FR Doc. 2019-09195 Filed 5-3-19; 8:45 am]

BILLING CODE 6717-01-P